DEPARTMENT OF TRANSPORTATION

Office of the Secretary

Notice of Applications for Certificates of Public Convenience and Necessity and Foreign Air Carrier Permits Filed Under Subpart B (formerly Subpart Q) During the Week Ending April 20, 2007

The following Applications for Certificates of Public Convenience and Necessity and Foreign Air Carrier Permits were filed under Subpart B (formerly Subpart Q) of the Department of Transportation's Procedural Regulations (see 14 CFR 301.201 et seq.).

The due date for Answers, Conforming Applications, or Motions to Modify cope are set forth below for each application. Following the Answer period DOT may process the application by expedited procedures. Such procedures may consist of the adoption of a show-cause order, a tentative order, or in appropriate cases a final order without further proceedings.

Docket Number: OST-2007-27996.

Date Filed: April 18, 2007.

Due Date for Answers, Conforming Applications, or Motion to Modify Scope: May 9, 2007.

Description: Application of Volare, S.p.A., requesting a foreign air carrier permit to carry international charter air traffic of passengers and their accompanying baggage and/or cargo between any point of points in the Republic of Italy and any point or points in the territory of the United States and any point or points in any third country or countries subject to the conditions set out in the currently effective open skies agreement between the Republic of Italy and the United States; and other charter trips in foreign air transportation.

Docket Number: OST-2005-20072 and OST-2005-21744.

Date Filed: April 19, 2007.

Due Date for Answers, Conforming Applications, or Motion to Modify Scope: May 10, 2007.

Description: Application of Skybus Airlines, Inc. (“Skybus”), requesting a disclaimer of jurisdiction and reissuance of certificates or, alternatively, approval of the transfer of Skybus's certificates of public convenience and necessity and other operating authority from Skybus Airlines, LLC, an entity which no longer exists.

Renee V. Wright,
Program Manager, Docket Operations, Federal Register Liaison.

[FR Doc. E7-8174 Filed 4-27-07; 8:45 am]

BILLING CODE 4910-9X-P